DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD). +Elevation in feet (NAVD). #Depth in feet above ground. Modified | Communities affected
Pender County, North Carolina and Incorporated Areas
Docket Nos.: FEMA-D-7626 and D-7662
Angola Creek | At the confluence with Holly Shelter Creek | +20 | Pender County (Unincorporated Areas).
| Approximately 0.2 mile downstream of the Pender/Duplin County boundary | +31
Tributary 3 | At the confluence with Angola Creek | +23 | Pender County (Unincorporated Areas).
| Approximately 500 feet upstream of Cypress Creek Road | +33
Tributary 4 | At the confluence with Angola Creek | +26 | Pender County (Unincorporated Areas).
| Approximately 1.4 miles upstream of NC Highway 50 | +42
Ashes Creek | At the confluence with Northeast Cape Fear River | +17 | Pender County (Unincorporated Areas).
| Approximately 2.8 miles upstream of Southwest Lake | +35
Bear Branch | At the confluence with Black River | +16 | Pender County (Unincorporated Areas).
| Approximately 2,000 feet upstream of Blueberry Road | +28
Beckys Creek | Approximately 1.1 miles upstream of the Intracoastal Waterway | +8 | Pender County (Unincorporated Areas).
| Approximately 1.0 mile upstream of State Route 210 | +29
Bee Branch | At the confluence with Cypress Creek (near Wards Corner) | +45 | Pender County (Unincorporated Areas).
| Approximately 350 feet upstream of Shiloh Road | +55
Big Branch | At the confluence with Colvins Creek | +14 | Pender County (Unincorporated Areas).
| Approximately 875 feet upstream of the confluence with Big Branch Tributary | +24
Big Branch Tributary | At the confluence with Big Branch | +23 | Pender County (Unincorporated Areas).
| Approximately 0.37 mile upstream of the confluence with Big Branch | +33
Black River | At the confluence with Cape Fear River | +9 | Pender County (Unincorporated Areas).
| Approximately 350 feet upstream of Beattys Bridge Road | +24
Burgaw Creek | At the confluence with Northeast Cape Fear River | +15 | Pender County (Unincorporated Areas), Town of Burgaw.
| Approximately 400 feet upstream of West Wilmington Street | +50
Cape Fear River | Approximately 0.6 mile downstream of the confluence with Black River | +8 | Pender County (Unincorporated Areas).
| At the Bladen/Pender County boundary | +23
Catskin Creek | At the confluence with Merricks and Players Creek | +9 | Pender County (Unincorporated Areas).
| Approximately 6.6 miles upstream of the confluence with Merricks and Players Creek | +34
Colvins Creek | At the confluence with Black River | +16 | Pender County (Unincorporated Areas).
| Approximately 0.8 mile upstream of Beattys Bridge Road | +70
Tributary | At the confluence with Colvins Creek | +25 | Pender County (Unincorporated Areas).
| Approximately 0.5 mile upstream of Slocum Trail | +44
Cypress Creek (near Stag Park) | At the confluence with Northeast Cape Fear River | +13 | Pender County (Unincorporated Areas), Village of Saint Helena.
| Approximately 800 feet upstream of Front Street | +57
Cypress Creek (near Wards Corner) | At the confluence with Long Creek | +25 | Pender County (Unincorporated Areas).
| Approximately 0.5 mile upstream of Shiloh Road | +53
Doctors Creek | At the confluence with Rockfish Creek | +39 | Pender County (Unincorporated Areas).
| Approximately 0.25 mile upstream of Katie Ford Road | +51
Dry Branch | Approximately 20 feet upstream of NC Highway 421 | +51 | Pender County (Unincorporated Areas).
| Approximately 1.1 miles upstream of NC Highway 421 | +55
Godfrey Creek | At the confluence with Harrisons Creek | +16 | Pender County (Unincorporated Areas).
| Approximately 2.1 miles upstream of the confluence with Harrisons Creek | +32
Guffords Branch | At the confluence with Rileys Creek | +10 | Pender County (Unincorporated Areas).
| Just downstream of Highway 210 | +11
Harrisons Creek | At State Route 210 | +8 | Pender County (Unincorporated Areas).
| Approximately 300 feet upstream of Holiday Drive | +29
Holly Shelter Creek | At the confluence with Northeast Cape Fear River | +17 | Pender County (Unincorporated Areas).
| At the Pender/Onslow County boundary | +37
Island Creek Tributary | Approximately 0.4 mile upstream of the confluence with Island Creek | +9 | Pender County (Unincorporated Areas).
| Approximately 2.8 miles upstream of the confluence with Island Creek | +27
Jones Creek | At the confluence with Colvins Creek | +34 | Pender County (Unincorporated Areas).
| Approximately 1.0 mile upstream of Beattys Bridge Road | +36
Kellys Creek | At the confluence with Rileys Creek | +25 | Pender County (Unincorporated Areas).
| Approximately 200 feet upstream of Little Kelly Road | +29
Lillington Creek | At the confluence with Northeast Cape Fear River | +13 | Pender County (Unincorporated Areas).
| Approximately 2.7 miles upstream of Shaw Highway | +29
Long Creek | Approximately 3.5 miles upstream of the confluence with Northeast Cape Fear River | +7 | Pender County (Unincorporated Areas).
| At NC Highway 53 | +31
Lillington Creek Tributary | At the confluence with Lillington Creek | +13 | Pender County (Unincorporated Areas).
| Approximately 0.9 mile upstream of Vogler Drive | +17
Long Creek Tributary | At the confluence with Long Creek | +26 | Pender County (Unincorporated Areas).
| Approximately 0.3 mile upstream of the confluence with Long Creek | +30
Lewis Creek | Approximately 1,500 feet upstream of the confluence with Northeast Cape Fear River | +23 | Pender County (Unincorporated Areas).
| Approximately 600 feet downstream of U.S. Highway 117 | +24
Merricks Creek | At State Route 210 | +8 | Pender County (Unincorporated Areas).
| At the confluence with Catskin Creek | +9
Mill Branch (of Moores Creek) | Approximately 0.7 mile downstream of NC Highway 53 | +43 | Pender County (Unincorporated Areas), Town of Atkinson.
| At Church Street (NC Highway 53) | +64
Mill Creek | At the confluence with Rileys Creek | +27 | Pender County (Unincorporated Areas).
| Approximately 200 feet upstream of Highsmith Road | +30
Mill Pond | At the confluence with Holly Shelter Creek | +17 | Pender County (Unincorporated Areas).
| Approximately 1.5 miles upstream of Highway 53 | +17
Moores Creek | At the confluence with Holly Shelter Creek | +27 | Pender County (Unincorporated Areas).
| At the Pender/Onslow County boundary | +43
Moores Creek (near Atkinson) | Approximately 1.2 miles upstream of Highway 210 | +16 | Pender County (Unincorporated Areas).
| Approximately 0.3 mile downstream of John Henry Store Road | +20
Tributary 1 | At the confluence with Moores Creek | +33 | Pender County (Unincorporated Areas).
| At the confluence with Moores Creek | +51
| At the Pender/Onslow County boundary | +39 | Pender County (Unincorporated Areas).
Tributary 2 | At the confluence with Moores Creek | +46
| At the confluence with Moores Creek | +37 | Pender County (Unincorporated Areas).
Tributary 6 | At the confluence with Moores Creek Tribuatory 6. | +42 | Pender County (Unincorporated Areas).
Tributary 7 | At the confluence with Moores Creek Tributary 6 | +42 | Pender County (Unincorporated Areas).
| Approximately 1.0 mile upstream of Cypress Creek Road | +74
Northeast Cape Fear River | At the upstream side of State Route 210 | +8 | Pender County (Unincorporated Areas).
| At the Pender/Duplin County boundary | +26
Pike Creek | At the confluence with Northeast Cape Fear River | +10 | Pender County (Unincorporated Areas).
| Approximately 2.1 miles upstream of Interstate 40 | +34
Players Creek | At the confluence with Merricks Creek | +9 | Pender County (Unincorporated Areas).
| Approximately 2.5 miles upstream of the confluence with Merricks Creek | +25
Rileys Creek | At the confluence with Long Creek | +9 | Pender County (Unincorporated Areas).
| At the confluence with Mill Creek and Rizzo Creek | +27
Rizzo Creek | At the confluence with Rileys Creek | +27 | Pender County (Unincorporated Areas).
| Approximately 0.5 mile upstream of the confluence with Rileys Creek | +29
Rockfish Creek | At the confluence with Northeast Cape Fear River | +26 | Pender County (Unincorporated Areas).
| At the confluence with Doctors Creek | +39
Sandy Run Swamp | At the confluence with Holly Shelter Creek | +21 | Pender County (Unincorporated Areas).
| At the Pender/Onslow County boundary | +29
Sawyer Creek | At the confluence with Sills Creek | +29 | Pender County (Unincorporated Areas).
| Approximately 125 feet downstream of Highway 11 | +42
Shaken Creek | At the confluence with Holly Shelter Creek | +18 | Pender County (Unincorporated Areas).
| Approximately 0.3 mile downstream of the Pender/Onslow County boundary | +34
Shelter Swamp Creek | At the confluence with Sandy Run Swamp | +25 | Pender County (Unincorporated Areas).
| Approximately 1,900 feet upstream of the Onslow Pender County boundary | +34
Sills Creek | At the confluence with Sawyer Creek | +29 | Pender County (Unincorporated Areas).
| Approximately 600 feet downstream of Old Mill Road | +33
Trumpeter Swamp | At the confluence with Catskin Creek | +16 | Pender County (Unincorporated Areas).
| Approximately 1.2 miles upstream of J. A. Drive | +42
Turkey Creek | At the upstream side of State Route 133 | +8 | Pender County (Unincorporated Areas).
| Approximately 2.3 miles upstream of State Route 133 | +22
Tributary | At the confluence with Turkey Creek | +11 | Pender County (Unincorporated Areas).
| Approximately 850 feet upstream of Arvida Spur Road | +28
Washington Creek | At the confluence with Northeast Cape Fear River | +25 | Pender County (Unincorporated Areas).
| Approximately 0.7 mile upstream of Interstate 40 | +27
Tributary | At the confluence with Washington Creek | +27 | Pender County (Unincorporated Areas).
| Approximately 0.7 mile upstream of the confluence with Washington Creek | +44
White Oak Branch | At the confluence with Tuckahoe Branch | +43 | Pender County (Unincorporated Areas).
| Approximately 0.6 mile downstream of Shiloh Road | +53
ADDRESSES
City of Burgaw
Maps available for inspection at the Burgaw City Hall, 109 North Walker Street, Burgaw, North Carolina.
Pender County (Unincorporated Areas)
Maps available for inspection at the Pender County Planning Department, 805 South Walker Street, Burgaw, North Carolina.
Village of Saint Helena
Maps available for inspection at the Saint Helena Village Hall, 330 Main Street, Burgaw, North Carolina.
# Depth in feet above ground.
* National Geodetic Vertical Datum.
+ North American Vertical Datum.

(Catalog of Federal Domestic Assistance No. 83.100, “Flood Insurance.”)

Dated: October 4, 2006.
David I. Maurstad,
Director, Mitigation Division, Federal Emergency Management Agency, Department of Homeland Security.

[FR Doc. E6-17274 Filed 10-16-06; 8:45 am]

BILLING CODE 9110-12-P